DEPARTMENT OF JUSTICE

Antitrust Division

Federal Register Notice

Notice is hereby given pursuant to the Defense Production Act of 1950, 50 U.S.C. App. § 2158 (“DPA”) that the Attorney General finds that the purpose of a Voluntary Tanker Agreement (“VTA”) proposed by the Maritime Administration (“MarAd”) may not reasonably be achieved through a voluntary agreement or plan of action having less anticompetitive effects or without any voluntary agreement of plan of action. The text of the proposed VTA was published in Volume 72 of the Federal Register at pages 41099-41103 (July 26, 2007).

Under the DPA, MarAd may enter into agreements with representatives of private industry for the purpose of improving the efficiency with which private firms contribute to the national defense when conditions exist that may pose a direct threat to the national defense or its preparedness. Such arrangements are generally known as “voluntary agreements.” A defense to actions brought under the antitrust laws is available to each participant acting within the scope of a voluntary agreement that has come into force under the DPA.

The DPA requires that each proposed voluntary agreement be reviewed by the Attorney General prior to becoming effective. If, after consulting with the Chairman of the Federal Trade Commission, the Attorney General finds that the purpose of the DPA “may not be reasonably achieved through a voluntary agreement having less anticompetitive effects or without any voluntary agreement or plan of action,” the agreement may become effective. 50 U.S.C. App. § 2158(f)(1)(B). The Attorney General's authority is delegated to the Assistant Attorney General for the Antitrust Division by 28 CFR 0.40(e).

The purpose of the proposed VTA is to support Department of Defense (“DoD”) contingency requirements to provide tanker capacity during times of crisis through procedures agreed in advance. The proposed VTA establishes the terms, conditions and procedures under which participants agree voluntarily to make tankers available to the DoD. MarAd has certified that the proposed VTA is necessary to carry out its purpose.

MarAd requested that the Antitrust Division issue a finding that the proposed VTA satisfies the statutory criteria set forth in 50 U.S.C. App. § 21 58(f)(1)(B). The Antitrust Division reviewed the proposed agreement, attended an open meeting of interested persons pursuant to the requirements of 44 CFR 332.2, and consulted with the Chairman of the Federal Trade Commission as to the competitive effect of the proposed agreement. On July 23, 2008, by letter to Sean T. Connaughton, Maritime Administrator for MarAd, Thomas O. Barnett, Assistant Attorney General for the Antitrust Division, issued a finding that the proposed agreement satisfies the statutory criteria.

J. Robert Kramer II,
Director of Operations, Antitrust Division.

[FR Doc. E8-17996 Filed 8-7-08; 8:45 am]

BILLING CODE 4410-11-M